DEPARTMENT OF THE INTERIOR

Fish and Wildlife Service

[FWS-FAC-2018-N061; FXFR13360900000-FF09F14000-167]

Aquatic Nuisance Species Task Force Meeting

AGENCY: Fish and Wildlife Service, Interior.

ACTION: Notice of meeting.

SUMMARY: We, the U.S. Fish and Wildlife Service, announce a public meeting of the Aquatic Nuisance Species (ANS) Task Force, in accordance with the Federal Advisory Committee Act. The ANS Task Force's purpose is to develop and implement a program for U.S. waters to prevent introduction and dispersal of aquatic invasive species; to monitor, control, and study such species; and to disseminate related information.

DATES: The ANS Task Force will meet Tuesday through Thursday, June 12-14, 2018, from 8:30 a.m. to 5 p.m. each day. The meeting is open to the public; for security purposes, signup is required. For more information, contact the ANS Task Force Executive Secretary (see FOR FURTHER INFORMATION CONTACT).

ADDRESSES:

Meeting location: The ANS Task Force meeting will take place at the National Oceanic and Atmospheric Administration, Building 3, Room 4527, 1315 East-West Highway, Silver Spring, MD 20910 (phone: 301-713-0174).

Comment submission: You may submit written comments in advance of the meeting by emailing them to the ANS Task Force Executive Secretary (see FOR FURTHER INFORMATION CONTACT).

FOR FURTHER INFORMATION CONTACT: Susan Pasko, Executive Secretary, ANS Task Force, by telephone at (703) 358-2466, or by email at Susan_Pasko@fws.gov. If you use a telecommunications device for the deaf (TDD), please call the Federal Relay Service at (800) 877-8339.

SUPPLEMENTARY INFORMATION: We, the U.S. Fish and Wildlife Service (Service), announce a public meeting of the Aquatic Nuisance Species (ANS) Task Force, in accordance with the Federal Advisory Committee Act (5 U.S.C. Appendix 2). The ANS Task Force was established by the Nonindigenous Aquatic Nuisance Prevention and Control Act of 1990, as amended (NANPCA; 16 U.S.C. 4701 et seq.), is composed of 13 Federal and 15 ex-officio members, and is co-chaired by the U.S. Fish and Wildlife Service and the National Oceanic and Atmospheric Administration. The ANS Task Force's purpose is to develop and implement a program for U.S. waters to prevent introduction and dispersal of aquatic invasive species; to monitor, control, and study such species; and to disseminate related information.

Meeting Agenda

• Update on the U.S. Geological Survey Nonindigenous Aquatic Species Database.

• Update from the Asian Carp Regional Coordinating Committee.

• Sessions to evaluate the Task Force and regional panel accomplishments and discuss strategies to further advance the Task Force mission.

• Public comment period.

The final agenda and other related meeting information will be posted on the Task Force website at http://anstaskforce.gov. Summary minutes of the meeting will be maintained by the Executive Secretary and will be available for public inspection within 90 days after the meeting at http://anstaskforce.gov.

Public Input

Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Dated: May 24, 2018.
John J. Schmerfeld,
Acting Assistant Director for Fish and Aquatic Conservation.

[FR Doc. 2018-11735 Filed 5-30-18; 8:45 am]

BILLING CODE 4333-15-P